DEPARTMENT OF LABOR

Employment and Training Administration

[TA-W-62,444]

Poirier's, Inc. Fall River, MA; Notice of Negative Determination Regarding Application for Reconsideration

By application dated January 15, 2008, a company official requested administrative reconsideration of the Department's negative determination regarding eligibility to apply for Trade Adjustment Assistance (TAA), applicable to workers and former workers of the subject firm. The denial notice was signed on December 12, 2007 and published in the Federal Register on December 31, 2007 (72 FR 74344).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative TAA determination issued by the Department for workers of Poirier's, Inc., Fall River, Massachusetts was based on the finding that the worker group does not produce an article within the meaning of Section 222 of the Trade Act of 1974.

The petitioner states that services provided by workers at the subject firm “contribute to the final production process”. The petitioner attached the description of various inspections that the car dealer needs to provide to the vehicles before selling them to customers. The petitioner alleges that because the services provided by workers at the subject firm are required by “state and federal laws”, workers of the subject firm who retail automobiles should be certified eligible for TAA.

The investigation revealed that the workers of Poirier's, Inc., Fall River, Massachusetts are engaged in retail of new and used cars, auto parts, supplies and service of automobiles. These functions, as described above, are not considered production of an article within the meaning of Section 222 of the Trade Act.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 26th day of February 2008.
Elliott S. Kushner,
Certifying Officer, Division of Trade Adjustment Assistance.

[FR Doc. E8-4440 Filed 3-6-08; 8:45 am]

BILLING CODE 4510-FN-P